FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. A copy of the agreements is available through the Commission's Web site (www.fmc.gov) or by contacting the Office of Agreements at (202) 523-5793 or tradeanalysis@fmc.gov.

Agreement No.: 012200-004.

Title: G6/Zim Transpacific Vessel Sharing Agreement.

Parties: American President Lines, Ltd. and APL Co. Pte Ltd. (Operating as one Party); Hapag-Lloyd AG and Hapag-Lloyd USA LLC (Operating as one Party); Hyundai Merchant Marine Co., Ltd.; Mitsui O.S.K. Lines, Ltd.; Nippon Yusen Kaisha; Orient Overseas Container Line Limited.; and Zim Integrated Shipping Services Limited.

Filing Party: David F. Smith, Esq.; Cozen O'Connor; 1200 Nineteenth Street NW., Washington, DC 20036.

Synopsis: The amendment would expand the geographic scope to include service between certain foreign ports and the U.S. East Coast. It also adds authority for the parties to share vessels and space on strings operated in the Trade by the G6 Lines pursuant to the G6 Alliance Agreement (FMC Agreement No. 012194). The parties have requested Expedited Review.

Agreement No.: 012428-001.

Title: CMA CGM/ELJSA Asia—USEC Service Space Charter Agreement.

Parties: CMA CGM S.A. and ELJSA Line Joint Service Agreement.

Filing Party: Paul M. Keane, Esq.; Cichanowicz, Callan, Keane & DeMay, LLP; 50 Main Street, Suite 1045, White Plains, NY, 10606.

Synopsis: The amendment would add Taiwan and Panama to the geographic scope of the Agreement.

By Order of the Federal Maritime Commission.
Dated: September 23, 2016.
Karen V. Gregory,
Managing Director.

[FR Doc. 2016-23401 Filed 9-27-16; 8:45 am]

BILLING CODE P